DEPARTMENT OF VETERANS AFFAIRS

Privacy Act of 1974; System of Records

AGENCY: Department of Veterans Affairs (VA).

ACTION: Notice of Amendment to VA System of Records—Voluntary Service Records—VA.

SUMMARY: The Privacy Act of 1974 requires that all agencies publish in the Federal Register notice of the existence of their systems of records. Notice is hereby given that the Department of Veterans Affairs (VA) is amending the system of records entitled “Voluntary Service Records—VA” (57VA125) as set forth in the Federal Register at 42 FR 6032 dated 02-01-77. The number of the system is changed from 57VA125 to 57VA10C2 to maintain consistency of numbering with the Office code for the VA Voluntary Service (VAVS). VA is amending the system by including a purpose, by adding a new routine use, and by revising the paragraphs for System Location and Policies and Practices for Storing, Retrieving, Retaining, and Disposing of Records in the System, including Storage, Retrievability and Safeguards. VA is republishing the system notice in its entirety.

DATES: Comments on the amendment of this system of records must be received no later than February 21, 2001. If no public comments are received, the new system will become effective February 21, 2001.

ADDRESSES: Written comments concerning the proposed new system of records may be submitted to the Office of Regulations Management (02D), Department of Veterans Affairs, 810 Vermont Avenue NW, Washington, DC 20420. Comments will be available for public inspection at the above address in the Office of Regulations Management, Room 1158, between the hours of 8 a.m. and 4:30 p.m., Monday through Friday (except holidays).

FOR FURTHER INFORMATION CONTACT: Veterans Health Administration (VHA) Privacy Act Officer, Department of Veterans Affairs, 810 Vermont Avenue, NW, Washington, DC 20420, telephone (727) 320-1839.

SUPPLEMENTARY INFORMATION: VAVS has been an integral part of the VA system since 1946 and operates the largest Volunteer Program in the Federal government supplementing staff and resources in all areas of patient care and support. Its mission is to provide a structured Volunteer Program under the management of VA compensated employees in cooperation with community resources to serve America's veterans and their families with dignity and compassion. VAVS volunteers assist veteran patients by augmenting staff in such settings as hospital wards, nursing homes, community-based volunteer programs, end-of-life care programs, foster care, and veterans outreach centers. VAVS volunteers and their organizations annually contribute millions of dollars in gifts, donations, and time. Volunteers are a priceless asset to these veterans and VA. Electronic and paper records are maintained in Voluntary Service to include master records of Regularly Scheduled (RS) Volunteers, documents of participation of Occasional Volunteers, signed “Waiver of Claims to Remuneration Agreement,” parental or guardian consent forms for student volunteers, etc. Voluntary Service administrative and general correspondence files will be maintained in accordance with Records Control Schedule (RCS) 10-1. Voluntary Service has determined as a matter of policy to record hours and visits of all volunteers each month. These paper and electronic records and information may be used for tracking the number of RS Volunteers, Occasional Volunteers, and student volunteers; to produce statistical and managerial reports on the number of hours and visits of all volunteers each month; and to present volunteers with appreciation awards for service. The processing of this data is accomplished by utilizing the Veterans Health Information Systems and Technology Architecture (VISTA).

Routine use 1 has been replaced by three routine use disclosure statements that more accurately reflect disclosing relevant information to agencies charged with enforcing the law conducting investigations. All of the routine use disclosure statements were renumbered. Two routine use disclosures have been added to assist in the administration of the VAVS program. Relevant information may be disclosed to the Department of Justice and United States Attorneys in defense or prosecution of litigation involving the United States, and to Federal agencies upon their request in connection with review of administrative tort claims filed under the Federal Tort Claims Act, 28 U.S.C. 2672. If one of the volunteer drivers is in an accident while driving a Disabled American Veterans vehicle, and there is litigation concerning the accident, VA must be able to provide relevant information. This information may include what assignment the volunteer has and whether or not the volunteer was listed as having worked on the day or days in question. A similar situation would apply if any volunteer were injured while volunteering at VA. Relevant information may be disclosed to individuals, organizations, private or public agencies, etc., with whom VA has a contract or agreement to perform such services as VA may deem practicable for the purposes of laws administered by VA, in order for the contractor or subcontractor to perform the services of the contract or agreement. VA occasionally contracts out certain of its functions when this would contribute to effective and efficient operations. VA must be able to give a contractor whatever information is necessary for the contractor to fulfill its duties. In these situations, safeguards are provided in the contract prohibiting the contractor from using or disclosing the information for any purpose other than that described in the contract.

The Austin Automation Center (AAC) is designated as the corporate database for this program. Data transmission between the AAC and VA health care facilities is accomplished using the Department's wide area network. All transmissions include header information that is used for validation purposes. In addition, consistency checks in the software are used to validate the transmission, and electronic acknowledgment messages are returned to the sending application. Strict control measures are enforced to ensure that access to, and disclosure from, all records are limited to Voluntary Service employees whose official duties warrant access to files. The automated electronic record system recognizes authorized users by keyboard entry of a series of unique passwords. Employees are required to sign a user access agreement acknowledging their knowledge of confidentiality requirements, and all employees receive annual training on information security. Working spaces and record storage areas in Voluntary Service are locked during non-business hours.

The notice of intent to publish and an advance copy of the system notice have been sent to the appropriate Congressional committees and to the Director of the Office of Management and Budget (OMB) as required by 5 U.S.C. 552a(r) (Privacy Act) and guidelines issued by OMB (61 FR 6428), February 20, 1996.

Approved: January 5, 2001.
Hershel W. Gober,
Acting Secretary of Veterans Affairs.

57VA10C2

System Name:

Voluntary Service Records—VA.

System Location:

Paper and electronic records are maintained at each of the VA health care facilities. Only electronic records are maintained at the Austin Automation Center (AAC), Austin, Texas. Active records are retained at the facility where the individual has volunteered to assist the administrative and professional personnel and at the AAC. Basic information for all inactive records is retained at the facility where the volunteer worked.

Categories of Individuals Covered by the System:

All volunteers, regularly-scheduled and occasional, including non-affiliated and members of voluntary service organizations; and welfare, service, veterans, fraternal, religious, civic, industrial, labor, and social groups or clubs which voluntarily offer the services of their organizations and/or individuals to assist with the provision of care to patients, either directly or indirectly, through VA Voluntary Service under Title 38, United States Code, section 513.

Categories of Records in the System:

Administrative records containing personal information about the individual making application to become a volunteer in a VA health care facility, VA regional office, or VA cemetery. These minimum records include the volunteer's name, address, social security number, date of birth, telephone number, next-of-kin information, assignments worked, hours and years of service and last award received. Information relating to the individual membership in service organizations, qualifications, restrictions and preferences of duty and availability to schedule time of service. Medical and training records pertaining to the volunteer's service will also be maintained for all active volunteers at the facility where the volunteer works.

Authority for Maintenance of the System:

Title 38, United States Code, section 513.

Purpose(s):

The records and information are used for tracking the number of Regularly Scheduled (RS) Volunteers, Occasional Volunteers, and student volunteers; to produce statistical and managerial reports on the number of hours and visits of all volunteers each month; and to present volunteers with certificates of appreciation for service.

Routine Uses of Records Maintained in the System, Including Categories of Users and the Purposes of Such Uses:

1. Any information in this system, except the name and address of a veteran, which is relevant to a suspected violation or reasonably imminent violation of law, whether civil, criminal or regulatory in nature and whether arising by general or program statute or by regulation, rule or order issued pursuant thereto, may be disclosed to a Federal, State, local or foreign agency charged with the responsibility of investigating or prosecuting such violation, or charged with enforcing or implementing the statute, regulation, rule or order issued pursuant thereto.

2. The name and address of a veteran, which is relevant to a suspected violation or reasonably imminent violation of law, whether civil, criminal or regulatory in nature and whether arising by general or program statute or by regulation, rule or order issued pursuant thereto, may be disclosed to a Federal agency charged with the responsibility of investigating or prosecuting such violation, or charged with enforcing or implementing the statute, regulation, rule or order issued pursuant thereto, in response to its official request.

3. The name and address of a veteran, which is relevant to a suspected violation or reasonably imminent violation of law concerning public health or safety, whether civil, criminal or regulatory in nature and whether arising by general or program statute or by regulation, rule or order issued pursuant thereto, may be disclosed to any foreign, State or local governmental agency or instrumentality charged under applicable law with the protection of the public health or safety if a qualified representative of such organization, agency or instrumentality has made a written request that such name and address be provided for a purpose authorized by law.

4. Volunteer records may be used to confirm volunteer service, duty schedule, and assignments to service organizations, Bureau of Unemployment, insurance firms, office of personnel of the individual's full-time employment; to assist in the development of VA history of the volunteer and his/her assignments; and to confirm voluntary hours for on-the-job accidents, and for recognition awards.

5. Disclosure may be made to a Congressional office from the record of an individual in response to an inquiry from the Congressional office made at the request of that individual.

6. Disclosure may be made to the National Archives and Records Service, General Services Administration, in records management inspections conducted under authority of Title 44 United States Code.

7. Relevant information may be disclosed to the Department of Justice and United States Attorneys in defense or prosecution of litigation involving the United States, and to Federal agencies upon their request in connection with review of administrative tort claims filed under the Federal Tort Claims Act, 28 U.S.C. 2672.

8. Relevant information may be disclosed to individuals, organizations, private or public agencies, etc., with whom VA has a contract or agreement to perform such services as VA may deem practicable for the purposes of laws administered by VA, in order for the contractor or subcontractor to perform the services of the contract or agreement. VA occasionally contracts out certain of its functions when this would contribute to effective and efficient operations.

Policies and Practices for Storing, Retrieving, Accessing, Retaining, and Disposing of Records in the System:

Storage:

Magnetic tapes of all active volunteers are maintained at the AAC in Austin, Texas. The AAC only maintains data on active volunteers. Paper documents for all active volunteers are maintained at the individual VA facilities where the volunteer has donated time. Computer files containing such basic information as the volunteer's name, address, social security number, date of birth, telephone number, next-of-kin information, assignments worked, hours and years of service and last award received are retained for all volunteers, either active or inactive, at the VA facility where the individual currently volunteers or has volunteered.

Retrievability:

All volunteer records are retrieved by name, social security number (SSN) or pseudo SSN.

Safeguards:

Physical Security:

1. Access to VA working space areas and the AAC is restricted to VA employees on a “need to know” basis. Generally, VA file areas and computer rooms are locked after normal duty hours and are protected from outside access by the Federal Protective Service.

2. Strict control measures are enforced to ensure that access to and disclosure from all records including electronic files stored in the Volunteer Management System in VistA are limited to VAVS employees whose official duties warrant access to those files. The system recognizes authorized employees by a series of individually unique passwords/codes and the employees are limited to only that information in the file which is needed in the performance of their official duties.

3. Any sensitive information that may be downloaded or printed to hard copy format is provided the same level of security as the electronic records. All paper documents and informal notations containing sensitive data are shredded prior to disposal.

4. All new VAVS employees receive initial information security training, and refresher training is provided to all employees on an annual basis.

5. Access to the AAC is generally restricted to Center employees, custodial personnel, Federal Protective Service and other security personnel. Access to computer rooms is restricted to authorized operational personnel through electronic locking devices. All other persons gaining access to computer rooms are escorted. Information stored in the computer may be accessed by authorized VA employees at remote locations including VA health care facilities, Information Systems Centers, VA Central Office, and Veterans Integrated Service Networks. Access is controlled by individually unique passwords/codes which must be changed periodically by the employee.

Retention and Disposal:

The paper and electronic records will be maintained and disposed of in accordance with the records disposition authority approved by the National Archives and Records Administration (NARA).

System Manager(s) and Addresse(s):

Official responsible for policies and procedures: Director, Voluntary Service Office (10C2), Department of Veterans Affairs, 810 Vermont Avenue, NW, Washington, DC 20420.

Official maintaining the system: National Automated Information Systems Coordinator, VA Medical Center, 2907 Pleasant Valley Blvd., Altoona, Pennsylvania 16602-4377.

Notification Procedure:

Individuals seeking information concerning the existence and content of their service records must submit a written request or apply in person to the VA health care facility where their voluntary service was accomplished. All inquiries must reasonably identify, to the VA facility, the portion of the volunteer's service record they want information about and the approximate dates of service, in order to receive that information. Inquiries should include the volunteer's name, social security number or pseudo SSN, organization represented, date of birth, and last address while serving as a volunteer to VA.

Records Access Procedures:

Volunteers, dependents, survivors or duly authorized representatives seeking information regarding access to and contesting of VAVS records may contact the Voluntary Service office at the VA health care facility where the individual was a volunteer worker.

Contesting Record Procedures:

(See Record Access Procedures above.)

Record Source Categories:

Information in this system of records may be provided by the volunteer, the family of youth volunteers, civic and service organizations, and the VA health care facility.

[FR Doc. 01-1561 Filed 1-19-01; 8:45 am]

BILLING CODE 8320-01-P